DEPARTMENT OF DEFENSE

48 CFR Parts 204 and 208

Defense Federal Acquisition Regulation Supplement; Technical Amendments

AGENCY: Department of Defense (DoD).

ACTION: Final rule.

SUMMARY: DoD is making technical amendments to the Defense Federal Acquisition Regulation Supplement to update Internet addresses and reference information.

DATES: Effective November 1, 2004.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350.

List of Subjects in 48 CFR Parts 204 and 208

Government procurement.

Michele P. Peterson,
Executive Editor, Defense Acquisition Regulations Council.

Therefore, 48 CFR parts 204 and 208 are amended as follows:

1. The authority citation for 48 CFR parts 204 and 208 continues to read as follows:

Authority: 41 U.S.C. 421 and 48 CFR Chapter 1.

PART 204—ADMINISTRATIVE MATTERS

2. Section 204.7003 is amended in paragraph (a)(1) by revising the last sentence to read as follows:

204.7003 Basic PII number.

(a) * * *

(1) * * * DoDAACs can be found at https://day2k1.daas.dla.mil/daasinq/.

* * * * *

3. Section 204.7005 is amended by revising paragraph (d) to read as follows:

204.7005 Assignment of order codes.

* * * * *

(d) Order code assignments can be found at http://www.acq.osd.mil/dpap/dfars/ordercode.htm.

PART 208—REQUIRED SOURCES OF SUPPLIES AND SERVICES

4. Section 208.404 is amended by adding paragraph (S-70) to read as follows:

208.404 Using schedules.

* * * * *

(S-70) See related information at PGI 208.404.

[FR Doc. 04-24285 Filed 10-29-04; 8:45 am]

BILLING CODE 5001-08-P